DEPARTMENT OF DEFENSE

Department of the Army; Corps of Engineers

Intent To Hold North Dakota Task Force Meeting as Established by the Missouri River Protection and Improvement Act of 2000 (Title VII)

AGENCY: Department of the Army, U.S Army Corps of Engineers, DoD.

ACTION: Notice of meeting.

SUMMARY: The duties of the Task Force are to prepare and approve a plan for the use of the funds made available under Title VII to reduce siltation of the Missouri River in the State of North Dakota, develop and implement a long-term strategy to improve conservation, protect recreation from sedimentation, improve water quality, improve erosion control, and protect historic and cultural sites along the Missouri River in North Dakota from erosion, and to identify and develop new projects.

DATES: North Dakota Missouri River Task Force established by the Missouri River Protection and Improvement Act of 2000 will hold a meeting on August 20, 2013 from 1:00 to 3:30 p.m.

ADDRESSES: The meeting will be held at the Wingate Hotel located at 1421 Skyline Blvd. in Bismarck, ND.

FOR FURTHER INFORMATION CONTACT: Gwyn M. Jarrett at (402) 995-2717.

SUPPLEMENTARY INFORMATION: The objectives of the Task Force are to prepare and approve a plan for the use of the funds made available under Title VII, develop and recommend to the Secretary of the Army ways to implement critical restoration projects meeting the goals of the plan, and determine if these projects primarily benefit the Federal Government. Written requests may be sent to Gwyn M. Jarrett, U.S. Army Corps of Engineers, 1616 Capitol Avenue, Omaha, NE 68102-4901.

Brenda S. Bowen,
Army Federal Register Liaison Officer.

[FR Doc. 2013-18544 Filed 8-1-13; 8:45 am]

BILLING CODE 3720-58-P